ENVIRONMENTAL PROTECTION AGENCY

40 CFR Part 52

[R08-OAR-2005-CO-0003; FRL-8016-1]

Approval and Promulgation of Air Quality Implementation Plans; Colorado; Revisions to New Source Review Rules; Extension of Comment Period

AGENCY: Environmental Protection Agency (EPA).

ACTION: Proposed rule; extension of the comment period.

SUMMARY: EPA is extending the comment period for a document published on December 7, 2005 (70 FR 72744). In the December 7, 2005 document, EPA proposed to approve those revisions adopted by Colorado on April 16, 2004 to Regulation No. 3 (Stationary Source Permitting and Air Pollutant Emission Notice Requirements) that incorporate EPA's December 31, 2002 NSR Reforms. At the request of several commentors, EPA is extending the comment period through February 6, 2006.

DATES: Comments must be received on or before February 6, 2006.

ADDRESSES: Submit comments, identified by Regional Material in EDocket (RME) ID No. R08-OAR-2005-CO-0003 by one of the following methods:

Federal eRulemaking Portal: http://www.regulations.gov. Follow the on-line instructions for submitting comments.

E-mail: daly.carl@epa.gov.

Fax: (303) 312-6064 (please alert the individual listed in the FOR FURTHER INFORMATION CONTACT if you are faxing comments).

Mail: You may send written comments to: Richard R. Long, Director, Air and Radiation Program, U.S. Environmental Protection Agency, Region 8, 999 18th Street, Suite 200, Denver, Colorado 80202.

Hand Delivery: Deliver your comments to: Richard R. Long, Director, Air and Radiation Program, U.S. Environmental Protection Agency, Region 8, 999 18th Street, Suite 300, 3rd floor, Denver, Colorado 80202. Such deliveries are only accepted during the Regional Office's normal hours of operation. The Regional Office's official hours of business are Monday through Friday, 8 a.m. to 4:55 p.m. excluding Federal holidays.

For additional information on submitting comments, see the December 7, 2005 (70 FR 72744) notice.

FOR FURTHER INFORMATION CONTACT: Carl Daly, EPA, Region VIII, (303) 312-6416.

Dated: December 19, 2005.
Kerrigan G. Clough,
Acting Regional Administrator, Region VIII.

[FR Doc. E5-7993 Filed 12-27-05; 8:45 am]

BILLING CODE 6560-50-P